DEPARTMENT OF ENERGY

Notice of Request for Information (RFI) on FY 2021 Bioenergy Technologies Office Multi-Topics

AGENCY: Office of Energy Efficiency and Renewable Energy, Department of Energy (DOE).

ACTION: Request for information (RFI).

SUMMARY: The U.S. Department of Energy (DOE) invites public comment on its Request for Information (RFI) number DE-FOA-0002386 to help inform its Bioenergy Technologies Office's (BETO) research priorities and funding strategies. The purpose of this RFI is to solicit feedback from industry, academia, research laboratories, government agencies, and other stakeholders on issues related to residential wood heater technology advancement and bioprocessing separations development.

DATES: Responses to the RFI must be received by September 21, 2020.

ADDRESSES: Interested parties are to submit comments electronically to FY21MultiTopic@ee.doe.gov. Include “BETO Multi-Topic RFI” in the subject line of the email. Only electronic responses will be accepted. The complete RFI document is located at https://eere-exchange.energy.gov/.

FOR FURTHER INFORMATION CONTACT: Questions may be addressed to FY21MultiTopic@ee.doe.gov or contact Josh Messner at 720-318-7385 or by email at joshua.messner@ee.doe.gov. Further instruction can be found in the RFI document posted on EERE Exchange.

SUPPLEMENTARY INFORMATION: The purpose of this RFI is to solicit feedback from industry, academia, research laboratories, government agencies, and other stakeholders on issues related to overcoming the technical barriers and challenges in the design of clean, efficient residential scale wood heaters and in bioprocessing separations development. EERE is specifically interested in information on the following areas:

Topic Area 1—Residential Wood Heater Technology Advancement: Identifying the critical technology gaps and resources required to significantly reduce emissions and improve efficiency of residential wood heaters.

Topic Area 2—Bioprocessing Separations Development: Identifying the critical technology gaps and research needs required to enable more efficient separations technologies spanning biochemical and thermochemical approaches.

Additional information is available in the full RFI. The RFI is available at: https://eere-exchange.energy.gov/.

Confidential Business Information

Pursuant to 10 CFR 1004.11, any person submitting information that he or she believes to be confidential and exempt by law from public disclosure should submit via email two well-marked copies: One copy of the document marked “confidential” including all the information believed to be confidential, and one copy of the document marked “non-confidential” with the information believed to be confidential deleted. DOE will make its own determination about the confidential status of the information and treat it according to its determination.

Signing Authority: This document of the Department of Energy was signed on August 14, 2020, by Michael Berube, Acting Director of the Bioenergy Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 18, 2020.
Treena V. Garrett,
Federal Register Liaison Officer, U.S. Department of Energy.

[FR Doc. 2020-18436 Filed 8-21-20; 8:45 am]

BILLING CODE 6450-01-P